DEPARTMENT OF COMMERCE

National Oceanic and Atmospheric Administration

[Docket No. 020821203-2203-01]

RIN 0648-ZB24

Call for Proposals for Research in Satellite Data Assimilation for Numerical and Climate Prediction Models

ACTION: Notice of availability of financial assistance.

SUMMARY: The recently established NOAA/NASA Joint Center for Satellite Data Assimilation (JCSDA) announces the availability of financial assistance for research in the area of satellite data assimilation in numerical weather and climate prediction models. The goal of the JCSDA is to accelerate the use of observations from earth-orbiting satellites in operational numerical prediction models for the purpose of improving weather forecasts, improving seasonal to interannual climate forecasts, and increasing the physical accuracy of climate data sets. The advanced instruments of current and planned NOAA, NASA, DoD, and international agency satellite missions will provide large volumes of data on atmospheric, oceanic, and land surface conditions with accuracies and spatial resolutions never before achieved. The JCSDA will ensure that the nation realizes the maximum benefit of its investment in space as part of an advanced global observing system. Funded proposals will help accelerate the use of satellite data from both operational and experimental spacecraft in operational and product driven weather and climate prediction environments, develop community radiative transfer models, develop improved surface emissivity models, and advance data assimilation science.

This notice of availability of financial assistance is being managed by NOAA on behalf of the JCSDA.

DATES: Proposals must be received by the National Environmental Satellite, Data, and Information Service (NESDIS) at the address identified in the ADDRESSES section of this notice no later than 5 p.m. EST on November 15, 2002. Facsimile transmissions and electronic mail submissions will not be accepted. Late applications will not be considered and will be returned to the applicant.

ADDRESSES: Send proposals to the NOAA/NASA Joint Center for Satellite Data Assimilation, 5200 Auth Road, Room 701, Camp Springs, MD 20746-4304. Proposals should cite this Notice and be sent to the attention of Kathy LeFevre.

FOR FURTHER INFORMATION: Regarding administrative questions, Kathy LeFevre, (301) 763-8127, Kathy.Lefevre@noaa.gov. Technical points of contact are Richard Rood, Acting Director of the JCSDA, (301) 286-8834, rrood@doa.gsfc.nasa.gov or Steve Lord, Acting Deputy Director, JCSDA, (301) 763-8000 ext. 7200, Stephen.Lord@noaa.gov.

SUPPLEMENTARY INFORMATION: Authority: Statutory authority for this program is provided under 49 U.S.C. 44720 and 15 U.S.C. 5631.

Catalog of Federal Domestic Assistance (CFDA): This program is listed in the Catalog of Federal Domestic Assistance under Number 11.440, Environmental Sciences, Applications, Data, and Education (previously titled Research in Remote Sensing of the Earth and Environment).

Funding Availability

Total funding available for this Notice is anticipated to be approximately $2,000,000. Individual annual awards in the form of grants or cooperative agreements are expected to range from $50,000 to $150,000, although successful proposals that are deemed by the Selection Panel to be exceptionally meritorious may be larger.

Award Period

Project duration will be 1-3 years, with funding for multi-year projects contingent on satisfactory progress in prior years and funding availability. There is no guarantee that sufficient funds will be available to make awards for all projects, nor that all research areas of interest will be supported. Publication of this Notice does not obligate NOAA toward any specific grant or cooperative agreement or to obligate all or any part of the available funds.

Cost Sharing

There is no requirement for cost sharing in response to this program announcement.

Eligibility

Eligible applicants are institutions of higher education, other non profits, commercial organizations, state, local and Indian tribal governments. Applications from non-Federal and Federal applicants will be competed against each other. Joint proposals involving Federal and external investigators are encouraged. Proposals selected for funding from non-Federal applicants will be funded through a grant or cooperative agreement depending upon the amount of collaboration, participation, or intervention by NOAA in the management of the project. Proposals selected for funding from NOAA scientists shall be effected by an intra-agency fund transfer. Proposals selected for funding from a non-NOAA Federal agency will be funded through an inter-agency transfer.

Please Note: Before non-NOAA Federal applicants may be funded, they must demonstrate that they have legal authority to receive funds from another Federal agency in excess of their appropriation. The only exception to this is governmental research facilities for awards issued under the authority of 49 U.S.C. 44720. Funding for contractual arrangements for services or products for delivery to NOAA is not available under this notice. Because this announcement is not proposing to procure goods or services from applicants, the Economy Act (31 U.S.C. 1535) is not an appropriate legal basis.

Program Description

The NOAA/NASA Joint Center for Satellite Data Assimilation is a distributed center that engages units of the NASA Goddard Space Flight Center (GSFC), Data Assimilation Office (DAO), NASA's Seasonal-to-Interannual Prediction Project (NSIPP), the NOAA/NESDIS Office of Research and Applications (ORA), the NOAA/National Weather Service (NWS)/National Centers for Environmental Prediction (NCEP)/Environmental Modeling Center (EMC), and the NOAA/Office of Oceanic and Atmospheric Research (OAR). The Joint Center's goal is to accelerate the abilities of NOAA and NASA to ingest and effectively use the large volumes of data from current satellite-based instruments and planned satellite missions over the next 10 years. JCSDA activities are divided into infrastructure development and proposal-driven scientific projects. Infrastructure activities will focus initially on the development and maintenance of a scientific backbone for the JCSDA, including a community-based fast radiative transfer model, a community-based surface emissivity model, and numerical prediction systems for performing assimilation experiments with real and simulated observations from new and future satellite instruments. The proposal-driven scientific projects are the primary mechanism for accelerating the transition of research and technological advances in remote sensing and data assimilation into the operational and product driven weather and climate prediction environment.

This research is to accelerate the science of satellite data assimilation in numerical weather forecast models. A primary measure of impact in this solicitation will be improvement of numerical weather prediction models and forecast accuracy. For numerical weather prediction applications, research can be performed NWP models and assimilation systems similar to the NOAA or NASA systems.

Research supporting development of the radiative transfer models used in assimilation applications should be in fast radiative transfer codes such as those used in real-time NWP.

Broader research topics in data assimilation, data impact, and improvement of radiative schemes for data assimilation applications that do not have the potential for direct application to real-time NWP systems are of less interest for this announcement.

System Documentation

Prospective applicants should review JCSDA documentation at:

NOAA/NCEP data assimilation system: http://sgi62.wwb.noaa.gov:8080/RTPUB/index.html

NASA/DAO data assimilation system: http://dao.gsfc.nasa.gov/Intranet/GEOS4

NASA/NSIPP data assimilation system: http://nsipp.gsfc.nasa.gov/research/research_main.html

OPTRAN: http://airs3.ssec.wisc.edu/~paulv/#F90 RTM

Project Priority Areas of Investigation

This announcement calls for proposals for scientific projects in the high-priority project areas described below. If investigators are uncertain about the applicability of their proposed research to the priorities of the JCSDA, they should discuss their ideas with the appropriate technical point of contact listed below, prior to submitting their proposals.

Radiative Transfer Models (Technical Point of Contact: Al Gasiewski, 303-497-7275; Al.Gasiewski@noaa.gov): Precise and fast means of calculating observed satellite radiances and their parametric derivatives for specific bands are essential for satellite data assimilation. Algorithms are sought for both microwave and infrared satellite bands. Proposals are encouraged that focus on (1) fundamental issues in atmospheric absorption by gases and/or absorption and scattering by aerosols, cloud particles, and/or precipitating hydrometeors; and (2) innovative radiative transfer solutions applicable to direct radiance assimilation. In the first case, an emphasis is placed on improved dielectric, spectral line, and/or continuum models and size/shape distributions that will decrease current errors in the calculation of satellite observed radiances. In the latter case, the emphasis is on fundamental improvements to existing radiative transfer models which extend the capability to assimilate IR and/or microwave radiances within cloudy and/or precipitating regions. For example, proposals could focus on:

1. Continuum and/or spectral line transmittance models,

2. Aerosol, cloud, and precipitation size/shape distribution models,

3. Mixed-phase dielectric models,

4. Hydrometeor absorption and/or scattering models,

5. Microwave and IR surface emission models,

6. Surface reflectance models including bidirectional properties,

7. Algorithms for performing fast forward calculations,

8. Development and application of tangent linear models,

9. Application of advanced radiative transfer models in radiance assimilation, or

10. Incorporation of all four Stokes' parameters.

Note: This priority area is intended for fundamental improvements in radiative transfer that are not related to specific satellite instruments. The proposed research should advance the state of the art leading to improved assimilation of satellite observations in general. The radiative transfer topics in the other sections are intended to advance the use of current or planned instruments, i.e., they are more instrument specific.

Atmospheric soundings (Technical Point of Contact: Lars-Peter Riishojgaard, 301-614-6245; Larspr@dao.gsfc.nasa.gov): Several new high-resolution infrared sounding instruments (e.g., AIRS, CrIS, IASI) will be launched over the course of the next 5-6 years, and maximizing the impact on numerical weather prediction and data assimilation systems of these new instruments has a high priority in the community. Likewise, several different areas of improvement in the use of the currently available data from satellite sounders have been identified.

1. Improvement and/or enhancement to the JCSDA radiative transfer models for advanced sounding instruments, incorporating cloud and aerosol effects, with the aim of working toward (a) assimilation of cloudy data, (b) aerosol correction of retrieved quantities, and (c) improved surface emissivity for use of data over land and ice (see Radiative Transfer Models, above).

2. Studies addressing the use of sounder data above cloudy areas; estimation of cloud-top height for the purpose of channel selection.

3. Observation System Simulation Experiments (OSSEs) using the JCSDA OSSE systems for high-resolution infrared sounders (e.g., AIRS, CrIS, IASI) aimed at examining the trade-off between the size of the instrument field of view and the noise characteristics.

4. Data selection and thinning methods aimed at reducing the number of horizontal locations for which data are assimilated in a manner that preserves as much information as possible.

5. Channel selection and/or data compression methods aimed at reducing the number of data points reported per profile at a minimum loss of profile information.

Clouds and Precipitation (Technical Point of Contact: John Derber, 301-763-8000, X7230; John.Derber@noaa.gov): The proper inclusion of clouds and precipitation observations is one of the most difficult problems in data assimilation. However, the benefits of incorporating this data are expected to be significant for directly enhancing the predictive skill of moist components (e.g., clouds, precipitation, convection, icing, etc.) of the short and long-term forecasts and indirectly enhancing all other components of the models.

The incorporation of cloud and precipitation data will require development of many components of the data assimilation system. These developments may include not only appropriate forward models, error statistics, bias correction and quality control, but also development of appropriate moist balances, new techniques for handling non-linearities in the balance equations or forward models, and modification of the model's parameterizations to increase compatibility with the observations and to eliminate inappropriate discontinuities. The incorporation of precipitation and clouds in the assimilation systems will require addressing a broad range of problems, individual proposals directed towards components of the problem will be expected to be closely coordinated with NOAA/NCEP and/or NASA/DAO to be compatible and consistent with proposals addressing other components. For example, proposals could focus on:

1. Forward models for cloud and precipitation observations from specific instruments.

2. Bias correction and quality control procedures for specific instruments.

3. Specification of observation error statistics for specific instruments and forward models.

4. Moist balance constraints to minimize cloud/precipitation spin-up/spin-down in data assimilation systems.

5. Definition of background error statistics for moisture variables in assimilation systems.

6. Efficient minimization algorithms for nonlinear functions resulting from cloud/precipitation assimilation.

Land Surface (Technical Point of Contact: Dan Tarpley, 301-763-8042 X117; Dan.Tarpley@noaa.gov): Satellite data contains much information about the land surface that is not now utilized in NWP and climate models. There are several reasons for this. One is the difficulty in deriving physical quantities that can be used in land surface physics packages from common remote sensing quantities. Examples are: (1) Derivation of leaf area index or vegetation fraction from NDVI or basic window channel reflectances, (2) the estimation of snow fraction and snow albedo from satellite brightness measurements, and (3) estimation of surface thermal emissivity from multispectral window channel data. Another difficulty is the complexity of assimilation of satellite window band observations into complex surface models. Forward models and adjoint formulations are very difficult in the atmospheric window regions of the spectrum. For example, proposals could focus on:

1. Timely (for operational weather prediction) retrieval of snowpack properties from satellite observations including snow fraction, snow albedo, snow depth, snow water content, and snow cover temperature.

2. Timely retrieval of vegetation properties from satellite observations including green vegetation fraction, leaf area index, canopy temperature, soil surface temperature, and canopy roughness.

3. Development of forward models for reflected solar radiation in atmospheric window bands for specific instruments (see Radiative Transfer Models, above). Should include bidirectional properties of the land surface.

4. Development and demonstration in variational land data assimilation of adjoint models for land physics models and treatments for background error covariances for use with NWP models.

5. Intercomparison of land assimilation techniques such as adjoint models/variational methods, Kalman filters, neural networks, nudging, and direct insertion for use with NWP models.

Oceans (Technical Point of Contact: Michele Rienecker, 301-614-5642; Michele.Rienecker@gsfc.nasa.gov) Ocean data assimilation is an emerging technology with applications that span timescales from weather (hurricane forecasting, marine safety) to seasonal-to-interannual climate forecasts to longer-term climate analyses. The challenges confronting ocean data assimilation stem from the paucity of observational data to constrain the models and to provide estimates of errors and from the strong negative influence of atmospheric forcing errors on estimates of the ocean state from numerical models. It is often difficult to distinguish errors and biases in a model from those associated with external forcing.

Successful proposals will require close coordination with NOAA/NCEP and/or NASA/NSIPP. For example, proposals could focus on:

1. Estimation of errors and error covariance in both satellite-derived and NWP analyses of surface winds, surface stresses and surface fluxes of sensible and latent heat and fresh water;

2. Improvement of surface winds, surface stresses and surface fluxes of sensible and latent heat and fresh water from satellite observations and NWP analyses for use in forcing ocean models, with a priority on surface winds;

3. Establishing observational error covariances for surface altimeter measurements for climate applications;

4. Establishing observational errors for Argo temperature-salinity profiles for climate applications;

5. Optimal merger of information from satellite altimetry and Argo temperature-salinity profiles in data assimilation for large scale ocean circulation analyses;

6. Ocean model bias correction during assimilation;

7. Improved estimates of ocean model background error covariances;

8. Improved estimates of mixed layer depth for utilization in hurricane forecasts;

9. Observing system experiments to help define the requirements for remotely sensed surface salinity; or

10. Improved (multi-sensor) SST retrievals with corrections for aerosol effects.

Application Procedures

All non-Federal applicants are required to submit a complete NOAA Grant Application Package and proposal. The standard forms and additional information are available on the DOC Grants Management Web site at http://www.doc.gov/oebam/grants.htm. If Internet access is not available, forms can be obtained by mail by contacting the NOAA/NESDIS/ORA at (301)763-8127. The Department of Commerce Pre-Award Notification of Requirements for Grants and Cooperative Agreements contained in the Federal Register Notice of October 1, 2001 (66 FR 49917; DOCID:fr01oc01-39) are applicable to this solicitation. However, please note that the Department will not implement the requirements of Executive Order 13202 (66 FR 49921), pursuant to guidance issued by the Office of Management and Budget in light of a court opinion which found that the Executive Order was not legally authorized. See Building and Construction Trades Department v. Allbaugh, 172 F. Supp. 2d 138, (D.D.C. 2001). This decision is currently on appeal. When the case has been finally resolved, the Department will provide further information on implementation of Executive Order 13202.

Proposals Preparation

Proposals must include the signed original and two unbound copies and must be received at the NOAA/NASA Joint Center for Satellite Data Assimilation (address above) by the date indicated in the DATES section of this Notice. Investigators are required to submit 3 copies of the proposal, however, the normal review process requires 10 copies. For an optimal review, investigators are encouraged to submit sufficient proposal copies, especially color or unusually sized (not 8.5″ × 11″), or otherwise unusual materials submitted as part of the proposal. Facsimile transmissions and electronic mail submission of proposals will not be accepted.

In addition to the information requested below, all proposals should include curriculum vitae (CV) for the principal investigator(s). The proposals must include the sections identified below and total no more than 10 pages in double-spaced, 12-point font format. The title page, detailed budget, investigator(s) vitae, any appendices, and grants application package forms are not included in the 10 page limit. Multi-year proposals up to a maximum of three years will be considered; however, funding beyond the first year will be dependent upon satisfactory performance and the continued availability of funds.

1. Title Page. The title page shall provide the project title, the name(s) of the lead Principal Investigator (PI), Co-investigator name(s) if any, the respective affiliations, complete addresses, telephone, FAX, and e-mail information. The title page will also present the total amount of Federal funds requested for each budget period. The title page shall also identify the specific research area of interest (the one most relevant area from those listed by number in the “Program Description” in this Notice), and clearly identify that the proposal is in response to this Notice. The title page should be signed by the PI(s) and the institutional representative of the PI's organization.

2. Abstract Page. The abstract page should be headed with the proposal title, institution(s), investigator(s), total proposed cost and budget period. The abstract should contain an introduction of the problem, proposed approach, expected outcome, and relevance to the goals of the JCSDA.

3. Goals and Objectives. Identify broad project goals and quantifiable objectives.

4. Background/Introduction. State the problem and summarize existing efforts in the context of present knowledge and/or capabilities.

5. Project Description/Methodology. Describe the specifics of the proposed approach to solving the problem and methodology to be used.

6. Relevance. Summarize the relevance of the proposed work to the goals of NWP, the priority areas listed above, and the potential improvements to data assimilation systems.

7. Project Co-investigators. Identify any project Co-investigators, their respective roles, and their contributions/relationships to the proposed effort.

8. Milestones and Time Lines. List target milestones and time lines (in multi-year proposed efforts, by year).

9. Project Budget. Provide a detailed budget breakdown by category (and in multi-year proposed efforts, by year) and a brief narrative to provide the basis for the budget. Joint proposals by Federal and non-Federal applicants must include separate budget breakdowns for the Federal and non-Federal funding portions. Non-Federal applicants must submit their budget information using the forms in the NOAA Grants Application Package referenced above.

Selection Criteria (With Weights)

All proposals will be scored according to the following criteria:

1. Importance and Relevance of Research to the Assimilation of Satellite Data in NWP Models (25 Points)

Will the proposed work advance the goal of the JCSDA? Will the proposed project make a significant contribution to the high priority research and technical areas listed above?

2. Technical Merit (25 Points)

Is the approach technically sound? Does the proposed project build on existing knowledge? Is the approach innovative?

3. Applicability and Effectiveness (25 Points)

Does the proposed work have the potential to significantly advance the use of satellite observations in numerical weather and short-term climate prediction models? Does the proposed work provide for flexible, early and effective opportunities for evaluation at the JCSDA (e.g., through cooperative experiments, demonstrations, or JCSDA evaluations)? Does the proposed work have the potential for long-term (lasting) value and widespread applicability? Does the proposed work include an effective mechanism by which the project's progress can be evaluated?

4. Cost Efficiency (10 Points)

Is the budget realistic and commensurate with the project needs? Does the budget narrative justify the proposed expenditures?

5. Meaningful Participation of Minority Serving (MSI) Institution(s) (5 Points)

Is there meaningful participation by an MSI in the proposed work? Are there subgrants, subcontracts or other partnership arrangements proposed with MSIs?

6. Overall Qualifications (10 Points)

Are the proposers capable of conducting a project of the scope and scale proposed (i.e., scientific, professional, facility, and administrative resources/capabilities)? Are appropriate partnerships going to be employed to achieve the highest quality content and maximal efficiency?

Selection Process

A selection panel will be convened to review and to provide recommendations on selection using the criteria published in these guidelines. The panel may include both Federal and non-Federal individuals. Each member of the review panel will review each proposal and assign the proposal a score. No consensus advice will be given by the panel. Proposals will be ranked and presented to the Selecting Official for final selection. In addition to the individual proposal rankings assigned by the panel, the Selecting Official may consider the following programmatic factors: balance among the prioritized research areas of programmatic interest described in the “Program Description” section of this Notice, extent of collaboration between non-Federal and Federal investigators, and duplication of existing supported research.

Disposition of Unsuccessful Proposals. Proposals will be held in the Program Office until awards are made to the selected applicants and then destroyed.

Project Management

All projects will be reviewed at an annual meeting of all grantees and JCSDA staff. Semi-annual progress reports will be required of all grantees.

Intergovernmental Review

Applications under this program are not subject to Executive Order 12372, “Intergovernmental Review of Federal Programs.”

Executive Order 12866

It has been determined that this notice is not significant for purposes of Executive Order 12866.

Executive Order 13132 (Federalism)

It has been determined that this notice does not contain policies with Federalism implications as that term is defined in Executive Order 13132.

Because notice and comment are not required under 5 U.S.C. 553, or any other law, for notices relating to public property, loans, grants, benefits, or contracts (5 U.S.C. 553(a)), a Regulatory Flexibility Analysis is not required and has not been prepared for this notice, 5 U.S.C. 601 et seq.

Paperwork Reduction Act

This document contains collection of information requirements subject to the Paperwork Reduction Act (PRA). The use of Standard Forms 424, 424A, 424B, and SF-LLL have been approved by OMB under the respective control numbers 0348-0043, 0348-0044, 0348-0040, and 0348-0046. Notwithstanding any other provision of law, no person is required to respond to, nor shall any person be subject to a penalty for failure to comply with a collection of information subject to the Paperwork Reduction Act unless that collection displays a currently valid OMB Control Number.

Dated: September 13, 2002.
Mary M. Glackin,
Deputy Assistant Administrator for Satellite and Information Services, NOAA.

[FR Doc. 02-23926 Filed 9-19-02; 8:45 am]

BILLING CODE 3510-HR-P